ENVIRONMENTAL PROTECTION AGENCY

[ER-FRL-6698-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20070524, ERP No. D-BLM-J65502-00. PROGRAMMATIC EIS—Oil Shale and Tar Sands Resource Management (RMP) Amendments to Address Land Use Allocations in Colorado, Utah and Wyoming.

Summary: EPA expressed environmental concerns about the potential for adverse impacts to air quality, surface water and groundwater. In addition, EPA suggested that the final EIS should strengthen the No Action alternative analysis, broaden the alternative analysis, and consider reasonably foreseeable development scenarios in the cumulative impacts analysis. Rating EC2.

EIS No. 20080002, ERP No. D-BLM-K08066-CA. Sunrise Powerlink Transmission Line Project, Proposed Land Use Plan Amendment, Construction and Operation of a New 91-mile 500 kilovolt (kV) Electric Transmission Line from Imperial Valley Substation (in Imperial Co. near the City of El Centro) to a New Central East Substation (in Central San Diego Co,) Imperial and San Diego Counties, CA.

Summary: EPA expressed environmental concerns about potential adverse impacts to watershed resources, air quality, and the Anza-Borrego Desert State Park. We recommend further discussion on basic project objectives, including the demonstration of purpose and need and the disclosure of economic costs and benefits. Rating EC2.

EIS No. 20080021, ERP No. D-SFW-L64053-AK. Yukon Flats National Wildlife Refuge Project, Proposed Federal and Public Land Exchange, Right-of-Way Grant, Anchorage, AK.

Summary: EPA expressed concerns about potential habitat fragmentation impacts; the lack of appraisal information and other data for exchange lands; and the limited range and number of alternatives considered. Rating EC2.

EIS No. 20080037, ERP No. D-AFS-L65548-ID. Yakus Creek Project, Proposes Timber Harvest, Watershed Improvement, and Access Management Activities, Lochsa Ranger District, Clearwater National Forest, Idaho County, ID.

Summary: EPA supports actions to improve forest and watershed health. However, the final EIS should consider increasing the rate of decommissioning closed roads and review the need for the proposed OHV connector trails which could potentially adversely impact water quality in source water areas. Rating EC1.

EIS No. 20080045, ERP No. D-BIA-K69008-CA. North Fork Rancheria of Mono Indians Fee-to-Trust and Casino/Hotel Project, Proposed 305-Acres-Fee-to-Trust Land Acquisition in Unincorporated Madera County, CA.

Summary: EPA expressed environmental concerns about potential groundwater impacts, and requested that a mitigation monitoring and enforcement program be included in the final EIS. Rating EC2.

EIS No. 20080048, ERP No. D-BLM-J67034-MT. Montana Tunnels Mine Project, Proposed M-Pit Mine Expansion to Existing Mine Pit to Access and Mine Additional Ore Resources, Jefferson County, MT.

Summary: EPA identified potential significant adverse impacts to water quality that should be avoided by ensuring that metals contamination of surface and ground-water will be adequately mitigated, and that pollutant loads are consistent with TMDLs for impaired waters. EPA requested that the final EIS include information regarding mine site water management, TMDL consistency, mitigation, closure, and bonding. Rating EO2.

EIS No. 20080070, ERP No. D-AFS-K65338-AZ. Warm Fire Recovery Project, Removal of Fire-Killed Trees Reforestation, Fuel Reduction and Road Reconstruction of Wildland Fire Burn Portion, Coconino County, AZ.

Summary: EPA expressed concern about water resource and habitat impacts. EPA requested additional information on these impacts and suggested that the selection of Alternative 3—Winter Logging would reduce many of the impacts. Rating EC2.

EIS No. 20080076, ERP No. D-AFS-L65549-ID. Bussel 484 Project Area, Manage the Project Area to Achieve Desired Future Conditions for Vegetation, Fire, Fuels, Recreation, Access, Wildlife, Fisheries, Soil and Water, Idaho Panhandle National Forest, St. Joe Ranger District, Shoshone County, ID.

Summary: EPA supports the proposed actions for managing forest health goals at the landscape level. However, EPA has environmental concerns with impacts to water quality from new road construction in the Bussel Creek Trail; impacts to riparian resources along the Norton Creek and Lines Creek trails under the proposed alternative; and the proposed time line for riparian plantings (10-15 years). The final EIS should include information on mitigation and whether new roads will be temporary. Rating EC1.

EIS No. 20080078, ERP No. D-AFS-J65512-MT. Butte Lookout Project, Proposed Timber Harvest, Prescribed Burning, Road Work and Management Activities, Missoula Ranger District, Lola National Forest, Missoula County, MT.

Summary: EPA supports activities to reduce bark beetle infestations and risks of wildfire, rehabilitate degraded watersheds, and provide timber for local and regional economies. However, EPA expressed environmental concerns about water quality impacts from logging and road construction and available funding to implement road decommissioning to achieve consistency with the downstream Lolo Creek TMDL. Rating EC2.

EIS No. 20080079, ERP No. D-USN-A11081-00. Introduction of the P-8A MMA into the U.S. Navy Fleet, To Provide Facilities and Functions That Support the Homebasing of 12 P-8A Multi-Mission Maritime Aircraft (MMA) Fleet Squadrons (72 Aircraft) and one Fleet Replacement Squadron (FRS), which include the Following Installations: Naval Air Station Jacksonville, FL; Naval Air Station Whidbey Island, WA; Naval Air Station North Island, CA; Marine Corps Base HI and Kaneohe Bay, HI.

Summary: EPA does not object to the proposed action. Rating LO.

EIS No. 20080063, ERP No. DS-USN-K11119-HI. Hawaii Range Complex (HRC) Project, Additional Information, To Support and Maintain Navy Pacific Fleet Training, and Research, Development, Test, and Evaluation (RDT&E) Operations, Kauai, Honolulu, Maui and Hawaii Counties, HI.

Summary: EPA expressed concerns about impacts to marine mammals from mid-frequency active (MFA) sonar. Rating EC2.

EIS No. 20080084, ERP No. DS-AFS-J65448-UT. West Bear Vegetation Management Project, Additional Information To Improve a Portion of the Cumulative Effects Analysis and Correct the Soils Analysis, Timber Harvesting, Prescribed Burning, Roads Construction, Township 1 North, Range 9 East, Salt Lake Principle Meridian, Evanston Ranger District, Wasatch-Cache National Forest, Summit County, UT.

Summary: This DSEIS responded adequately to our concerns on soil erosion and compactions; therefore, EPA does not object to the proposed action. Rating LO.

EIS No. 20080096, ERP No. DS-NOA-K39102-CA. Cordell Bank, Gulf of the Farallones and Monterey Bay National Marine Sanctuaries, Updated Information, Proposes a Series of Regulatory Changes, Offshore of Northern/Central, CA.

Summary: EPA does not object to the proposed project. Rating LO.

Final EISs

EIS No. 20080082, ERP No. F-AFS-L65542-ID. Cherry Dinner Project, Management of Vegetation, Hazardous Fuels, and Access Plus Watershed Improvements, Amendment to the Forest Plan, Palouse Ranger District, Clearwater National Forest, Latah County, ID.

Summary: EPA does not object to the proposed action.

EIS No. 20080085, ERP No. F-NPS-L65515-WA. Olympic National Park General Management Plan, Implementation, Clallam, Grays Harbor, Jefferson and Mason Counties, WA.

Summary: No formal comment letter was sent to the preparing agency.

EIS No. 20080100, ERP No. F-AFS-L65482-ID. Aspen Range Timber Sale and Vegetation Treatment Project, New Updated Version, Preferred Alternative is 5, Proposal To Treat Forested and Nonforested Vegetation, Caribou-Targhee National Forest, Soda Springs Ranger District, Caribou County, ID.

Summary: EPA supports the Preferred Alternative that decreases roads in riparian areas and meets Forest Plan standards and guidelines including Goshawk Habitat.

EIS No. 20080108, ERP No. FR-WPA-K08024-CA. Sacramento Area Voltage Support Project, Revision to FSEIS Filed February 2008, Selected Preferred Alternative B, Proposal to Build a Double-Circuit 230-kV Transmission Line, Placer, Sacramento and Sutter Counties, CA.

Summary: No formal comment letter was sent to the preparing agency.

Dated: April 29, 2008.
Robert W. Hargrove,
Director, NEPA Compliance Division, Office of Federal Activities.

[FR Doc. E8-9709 Filed 5-1-08; 8:45 am]

BILLING CODE 6560-50-P